DEPARTMENT OF THE INTERIOR

Bureau of Land Management

[LLNVCO0000.L16100000.DO0000.LXSS155F0000; 12-08807; MO# 4500030996; TAS: 14X1109]

Notice of Intent To Prepare a Revision to the Carson City District Resource Management Plan and Associated Environmental Impact Statement, Nevada

AGENCY: Bureau of Land Management, Interior.

ACTION: Notice of Intent.

SUMMARY: In compliance with the National Environmental Policy Act of 1969, as amended, and the Federal Land Policy and Management Act of 1976, as amended, the Bureau of Land Management (BLM) Carson City District (CCD), Carson City, Nevada, intends to prepare a Resource Management Plan (RMP) revision with an associated Environmental Impact Statement (EIS) for the Carson City District, and by this notice is announcing the beginning of the scoping process to solicit public comments and identify issues. The BLM will also seek nominations for Areas of Critical Environmental Concern (ACEC) and information on lands that may possess wilderness characteristics. The RMP will replace the existing Carson City Field Office Consolidated RMP (2001).

DATES: This notice initiates the public scoping process for the RMP with associated EIS. Comments on issues may be submitted in writing until April 24, 2012. Public scoping meetings will be held in Reno, Carson City, Yerington, Fallon, Hawthorne, and Minden, Nevada. The meeting times and addresses will be announced through the local news media, newsletters, mailings and the BLM project Web site: www.blm.gov/nv/st/en/fo/carsoncity_field.html at least 15 days prior to the event. All comments must be received prior to the close of the 60-day scoping period or 30 days after the last public meeting, whichever is later. The BLM will provide additional opportunities for public participation upon publication of the Draft RMP/EIS.

ADDRESSES: You may submit comments on issues and planning criteria related to the Carson City RMP/EIS revision by using any of the following methods:

• Web site: www.blm.gov/nv/st/en/fo/carsoncity_field.html.

• Email: BLM_NV_CCDO_RMP@blm.gov.

• Fax: 775-885-6147 Attention: Carson City RMP.

• Mail: Bureau of Land Management, 5665 Morgan Mill Road, Carson City, Nevada 89701 Attention: Carson City RMP.

Documents pertinent to this proposal may be examined at the Carson City District Office during regular business hours 7:30 a.m. to 4:30 p.m., Monday through Friday except holidays.

FOR FURTHER INFORMATION CONTACT: And/or to have your name added to the mailing list, call Colleen Sievers, Project Manager, 775-885-6000, or email csievers@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This document provides notice that the BLM Carson City District intends to prepare an RMP with an associated EIS for the Carson City District Planning Area, announces the beginning of the scoping process, and seeks public input on issues and planning criteria. The planning area is located in portions of 12 counties within 2 States (Washoe, Storey, Carson City, Douglas, Lyon, Churchill, Mineral, and Nye counties within Nevada; and Sierra, Alpine, Plumas, and Lassen counties within California), and encompasses approximately 5 million acres of public land. The planning area includes all lands regardless of jurisdiction; however the BLM will only make decisions on lands or interest in land under the BLM's jurisdiction, including subsurface minerals. The decision area includes only public land or interest in land managed by the BLM. The purpose of the public scoping process is to determine relevant issues that may influence the scope of the environmental analysis, including alternatives, and guide the planning process. Preliminary issues for the planning area have been identified by BLM personnel, Federal, State, and local agencies, and other stakeholders. The issues include, but are not limited to: Managing vegetative and water resources, including noxious and invasive species management; identifying terrestrial and aquatic wildlife and fish priority habitats; identifying and evaluating Areas of Critical Environmental Concern; identifying lands with wilderness characteristics; determining eligibility for Wild and Scenic Rivers, National Scenic and Historic Trail management, identifying off-highway vehicle designations and travel management, and special recreation management areas to meet increasing recreation demands; managing and protecting cultural, historical, and paleontological resources, as well as Native American religious and traditional values; visual resource management; managing renewable energy development for geothermal, solar and wind; identifying land tenure adjustments to meet community growth needs and sustainable development, and to facilitate the management of public lands; managing minerals, including stipulations to protect sensitive resources. Additional management concerns identified by the BLM include: Urban mining; grazing allotments near urban areas; and access to public lands. Preliminary planning criteria include: (1) The RMP revision will comply with FLPMA and all other applicable laws, regulations, and policies; (2) The RMP revision will analyze impacts from all alternatives in accordance with regulations at 43 CFR part 1610 and 40 CFR part 1500; (3) Decisions in the RMP revision will only apply to public lands and the mineral estate managed by the BLM; (4) The RMP revision process will follow the BLM Land Use Planning Handbook H-1601-1; (5) The RMP revision planning process will include broad-based public participation; (6) The RMP revision process will consider the identification and management of lands with wilderness characteristics; and (7) The RMP revision decisions will consider and incorporate existing plans and policies to the maximum extent possible of adjacent local, State, Federal, and tribal agencies to the extent consistent with Federal law and regulations applicable to public lands; (8) The RMP revision process will rely on available inventories of the lands and resources as well as data gathered during the planning process; (9) The RMP revision process will follow requirements to address sage-grouse habitat and conservation as outlined in the National Sage-Grouse Habitat Conservation Strategy, the Greater Sage-Grouse Notice of Intent (FR 2011-36152, December 9, 2011), and the most current BLM guidance and instruction memoranda; (10) The RMP revisions process will use Geographic Information Systems and corporate geospatial data to the extent practicable and Federal Geographic Data Committee standards and other applicable BLM data standards will be followed; (11) The RMP revision EIS will be developed through the BLM's ePlanning system to the extent consistent with the current functionality of the system and schedule considerations; (12) The RMP revision will incorporate and observe the principles of multiple use and sustained yield; (13) The RMP planning process will involve consultation with Native American tribal governments; (14) The RMP revision will recognize valid existing rights and incorporate valid existing management from the existing Carson City Field Office Consolidated RMP (2001) as appropriate; (15) The RMP revision will include a review of eligibility findings and tentative classification of waterways as eligible for inclusion in the National Wild and Scenic River System and follow the criteria contained in 43 CFR part 8351.

The BLM will collaborate with tribes, State and local governments, Federal agencies, local stakeholders, and others with interest in the RMP revision process. You may submit comments on issues and planning criteria to the BLM using one of the methods listed in the ADDRESSES section above. Before including an address, phone number, email address, or other personal identifying information in your comment, you should be aware that the entire comment—including personal identifying information—may be made publicly available at any time. While you can ask us in your comment to withhold your personal identifying information from public review, we cannot guarantee that we will be able to do so. The minutes and list of attendees for each scoping meeting will be available to the public and open for 30 days after the meeting to any participant who wishes to clarify the views he or she expressed. The BLM will evaluate the identified issues to be addressed in the RMP and will place them into one of three categories:

1. Issues to be resolved by the RMP;

2. Issues to be resolved through policy or administrative action; or

3. Issues beyond the scope of this RMP.

The BLM will provide an explanation in the Draft RMP/Draft EIS as to why an issue is placed in category two or three. The public is also encouraged to help identify management questions and concerns that should be addressed in the RMP. The BLM will work collaboratively with interested parties to identify the management decisions that are best suited to local, regional, and national needs and concerns.

The BLM will use an interdisciplinary approach to develop the RMP in order to consider the variety of resource issues and concerns identified. Specialists with expertise in the following disciplines will be involved in the planning process: Wildlife and fisheries; threatened and endangered species; special status species; vegetation; invasive and noxious weeds; renewable energy; lands and realty; minerals management; outdoor recreation; off highway vehicle and transportation; air resources; visual resources; cultural resources and Native American concerns; paleontology; hydrology; public safety; law enforcement; fire ecology and management; forestry; rangeland management; sociology and economics; and Geographic Information Systems.

Authority: 40 CFR 1501.7, 43 CFR 1610.2.

Amy Lueders,
Nevada State Director.

[FR Doc. 2012-4198 Filed 2-23-12; 8:45 am]

BILLING CODE 4310-HC-P